DEPARTMENT OF COMMERCE

Office of the Secretary

Estimates of the Voting Age Population for 2005

AGENCY: Office of the Secretary, Commerce.

ACTION: General notice announcing population estimates.

SUMMARY: This notice announces the voting age population estimates, as of July 1, 2005, for each State and the District of Columbia. We are giving this notice in accordance with the 1976 amendment to the Federal Election Campaign Act, Title 2, United States Code, Section 441a(e).

FOR FURTHER INFORMATION CONTACT: Signe I. Wetrogan, Acting Chief, Population Division, Bureau of the Census, Department of Commerce, Room 2019, Federal Building 3, Washington, DC 20233, telephone 301-763-2093.

SUPPLEMENTARY INFORMATION: Under the requirements of the 1976 amendment to the Federal Election Campaign Act, Title 2, United States Code, Section 441a(e), I hereby give notice that the estimates of the voting age population for July 1, 2005, for each State and the District of Columbia are as shown in the following table.

Estimates of the Population of Voting Age for Each State and the District of Columbia: July 1, 2005
[In thousands]
Area | Population 18 and over
United States | 222,940,420
Alabama | 3,468,055
Alaska | 475,337
Arizona | 4,358,856
Arkansas | 2,103,532
California | 26,430,285
Colorado | 3,484,652
Connecticut | 2,675,291
Delaware | 647,645
District of Columbia | 437,684
Florida | 13,721,987
Georgia | 6,709,854
Hawaii | 975,342
Idaho | 1,054,916
Illinois | 9,522,332
Indiana | 4,669,126
Iowa | 2,295,533
Kansas | 2,070,402
Kentucky | 3,193,245
Louisiana | 3,375,977
Maine | 1,044,169
Maryland | 4,197,427
Massachusetts | 4,940,707
Michigan | 7,596,586
Minnesota | 3,903,221
Mississippi | 2,172,544
Missouri | 4,422,078
Montana | 730,676
Nebraska | 1,327,158
Nevada | 1,793,627
New Hampshire | 1,006,789
New Jersey | 6,556,124
New Mexico | 1,438,902
New York | 14,708,746
North Carolina | 6,542,201
North Dakota | 500,159
Ohio | 8,704,930
Oklahoma | 2,694,548
Oregon | 2,791,112
Pennsylvania | 9,612,877
Rhode Island | 830,835
South Carolina | 3,227,881
South Dakota | 587,663
Tennessee | 4,572,437
Texas | 16,533,683
Utah | 1,727,029
Vermont | 490,431
Virginia | 5,742,897
Washington | 4,803,394
West Virginia | 1,434,359
Wisconsin | 4,240,206
Wyoming | 394,973

I have certified these counts to the Federal Election Commission.

Dated: January 10, 2006.
Carlos M. Gutierrez,
Secretary, Department of Commerce.

[FR Doc. E6-660 Filed 1-20-06; 8:45 am]

BILLING CODE 3510-07-P